DEPARTMENT OF LABOR

Agency Information Collection Activities; Submission for OMB Review; Comment Request; Evaluation of Strategies Used in TechHire and Strengthening Working Families Initiative (SWFI) Grant Programs

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, DOL is soliciting comments concerning the collection of data about the Evaluation of Strategies Used in TechHire and SWFI Grant Programs. A copy of the proposed Information Collection Request (ICR) can be obtained by contacting the office listed below in the addressee section of this notice.

DATES: Written comments must be submitted to the office listed in the addressee section below on or before May 6, 2019.

ADDRESSES: You may submit comments by either one of the following methods: Email: ChiefEvaluationOffice@dol.gov; Mail or Courier: Christina Yancey, Chief Evaluation Office, OASP, U.S. Department of Labor, Room S-2312, 200 Constitution Avenue NW, Washington, DC 20210. Instructions: Please submit one copy of your comments by only one method. All submissions received must include the agency name and OMB Control Number identified above for this information collection. Commenters are strongly encouraged to transmit their comments electronically via email or to submit them by mail early. Comments, including any personal information provided, become a matter of public record. They will also be summarized and/or included in the request for OMB approval of the information collection request.

FOR FURTHER INFORMATION CONTACT: Christina Yancey by email at ChiefEvaluationOffice@dol.gov or by phone at (202)693-5910.

SUPPLEMENTARY INFORMATION: I. Background: The Chief Evaluation Office (CEO), in collaboration with the Employment and Training Administration (ETA), of DOL seeks to build evidence about effective approaches to prepare Americans with skills and connect them to well-paying, middle- and high-skilled, and high growth jobs in H-lB industries (such as IT, healthcare, advanced manufacturing, financial services, and broadband). The evaluation will advance the evidence on innovative approaches being used to meet these goals in the TechHire Partnership (TechHire) and Strengthening Working Families Initiative (SWFI) grant programs. The evaluation will include two components, an implementation study and an impact study. This Federal Register Notice provides the opportunity to comment on the proposed data collection instrument that will be used in the last stage of the impact study. The goal of the impact study is to provide rigorous evidence on the effectiveness of strategies used in the TechHire and SFWI grant programs. The impact study consists of both a randomized controlled trial (RCT) and a quasi-experimental design (QED) evaluation. Five grantees have been selected to participate in an RCT. The QED includes all 53 TechHire and SWFI grantees and uses the pooled RCT control group as the comparison group using propensity score matching. The QED will collect data from an existing wage record data. It will also use data from the implementation study in an effort to analyze how variation in program correlates with implementation factors.

In January 2018, OMB approved the baseline data collection for this evaluation (OMB 1290-0014), which includes a baseline information form (BIF), 6-month follow-up participant survey, a participant tracking form, and a first round of site visit interviews. A second data collection for this evaluation is currently under review by OMB. This second collection includes a survey of grantees, semi-structured telephone interviews with grantees, a template for partner contact information, a survey of partners, semi-structured telephone interviews with partners, and a second round of site visit interviews. This Federal Register Notice provides the opportunity to comment on the proposed data collection instrument that will be used in the last stage of this evaluation.

• 18-month participant follow-up survey. The 18 month follow-up survey is the last piece of data collection required for this study. It will be administered 18 months after random assignment, to both the treatment and control groups. The purpose of the survey is to collect information on outcomes not available in existing data. These include current and past employment situation, hours worked, wages, shift work, employer benefits, job search activities, job satisfaction, promotion, education and training participation, criminal justice involvement, and childcare. The information will be delivered via a web survey, with three reminders sent via text message, email, and additional follow-up via telephone and field locator engagement.

II. Desired Focus of Comments: Currently, DOL is soliciting comments concerning the above data collection for the Evaluation of Strategies Use in the TechHire and SWFI programs. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, DOL is requesting clearance for an 18-month participant follow-up survey.

Type of Review: New information collection request.

OMB Control Number: 1290-0NEW.

Affected Public: TechHire and SWFI grantees and partners.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
18-month follow up participant survey | 454 ᵃ | 1 | 454 | .5 | 227
ᵃ Based on an expected 80% response rate from participants.

Molly Irwin,
Chief Evaluation Officer, U.S. Department of Labor.

[FR Doc. 2019-04053 Filed 3-5-19; 8:45 am]

BILLING CODE 4510-HX-P